DEPARTMENT OF ENERGY

Federal Energy Regulatory Commission

[Docket No. EL05-56-000]

Connecticut Department of Public Utility Control Complainant, v. ISO New England and New England Power Pool Respondent; Notice of Amended Complaint and Extension of Time

February 4, 2005.

On January 14, 2005, Connecticut Department of Public Utility Control (CT DPUC), submitted a petition to the Commission for an order directing the New England Power Pool (NEPOOL) and ISO New England (ISO-NE) to amend the currently effective NEPOOL Open Access transmission Tariff (OATT) and the superseding OATT of the Regional Transmission Organization for New England (RTO-NE), approved by the Commission in ISO New England, Inc.,106 FERC ¶ 61,280 (2004). The Commission issued a Notice of Complaint on January 18, 2005, and established February 7, 2005, as the date for comments and answers to the complaint. On February 2, 2005, CTDPUC filed an amendment to its original complaint.

The Commission is hereby extending the time to file answers to the complaint, as amended on February 2, 2005. Accordingly, responses to CTCPUC's complaint, as amended, are to be filed on or before February 22, 2005.

Magalie R. Salas,
Secretary.

[FR Doc. E5-567 Filed 2-9-05; 8:45 am]

BILLING CODE 6717-01-P